DEPARTMENT OF VETERANS AFFAIRS

[OMB Control No. 2900-0162]

Agency Information Collection Activity: Monthly Certification of Flight Training

AGENCY: Veterans Benefits Administration, Department of Veterans Affairs.

ACTION: Notice.

SUMMARY: Veterans Benefits Administration, Department of Veterans Affairs (VA), is announcing an opportunity for public comment on the proposed collection of certain information by the agency. Under the Paperwork Reduction Act (PRA) of 1995, Federal agencies are required to publish notice in the Federal Register concerning each proposed collection of information, including each proposed revision of a currently approved collection, and allow 60 days for public comment in response to the notice.

DATES: Written comments and recommendations on the proposed collection of information should be received on or before November 12, 2019.

ADDRESSES: Submit written comments on the collection of information through Federal Docket Management System (FDMS) at www.Regulations.gov or Danny S. Green, VA Clearance Officer, Office of Quality, Performance and Risk, Veterans Benefit Administration, Department of Veterans Affairs, 810 Vermont Avenue NW, Washington, DC 20420 or email to Danny.Green2@va.gov. Please refer to “OMB Control No. 2900-0162” in any correspondence. During the comment period, comments may be viewed online through FDMS.

FOR FURTHER INFORMATION CONTACT: Danny S. Green at (202) 421-1354.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, VBA invites comments on: (1) Whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Authority: 38 U.S.C. 3032(e), 3231(e), 3313(g)(3)(C), and 3680(g).

Title: Monthly Certification of Flight Training, VA Form 22-6553c.

OMB Control Number: 2900-0162.

Type of Review: Revision of a currently approved collection.

Abstract: Veterans, individuals on active duty training and reservist training, may receive benefits for enrolling in or pursuing approved vocational flight training. VA Form 22-6553c serves as a report of flight training pursued and termination of such training. Payments are based on the number of hours of flight training completed during the month.

Affected Public: Individuals.

Estimated Annual Burden: 11,343 hours.

Estimated Average Burden per Respondent: 30 minutes.

Frequency of Response: On occasion (6 responses per respondent annually).

Estimated Number of Respondents: 3,781 (22,686 responses).

By direction of the Secretary.
Danny S. Green,
VA Clearance Officer, Office of Quality, Performance and Risk, Department of Veterans Affairs.

[FR Doc. 2019-19546 Filed 9-9-19; 8:45 am]

BILLING CODE 8320-01-P